DEPARTMENT OF THE INTERIOR

Bureau of Land Management

[OR-027-1220-PG; G 3-0266]

Steens Mountain Advisory Council; Notice of Call for Nominations

AGENCY: Bureau of Land Management (BLM), Burns District, Interior.

ACTION: Call for nominations for the Steens Mountain Advisory Council (SMAC).

SUMMARY: BLM is publishing this notice under section 9(a)(2) of the Federal Advisory Committee Act. Pursuant to the Steens Mountain Cooperative Management and Protection Act of 2000 (Pub. L. 106-399), BLM gives notice that the Secretary of the Interior is calling for nominations for one vacating position to the SMAC. This notice requests the public to submit nominations for membership on the SMAC.

Any individual or organization may nominate one or more persons to serve on the SMAC. Individuals may nominate themselves for SMAC membership. Nomination forms may be obtained from the Burns District Office, Bureau of Land Management (see address below). To make a nomination, submit a completed nomination form, letters of reference from the represented interests or organizations, as well as any other information that speaks to the nominee's qualifications, to the Burns District Office. Nominations may be made for the following category of interest:

• A person who participates in what is commonly called dispersed recreation, such as hiking, camping, nature viewing, nature photography, bird watching, horseback riding or trail walking (appointed from nominees submitted by the Oregon State Director of the BLM).

The BLM will forward recommended nominations to the Secretary of the Interior, who has responsibility for making the appointment.

DATES: Nominations should be submitted to the address listed below no later than 30 days after publication of this notice.

FOR FURTHER INFORMATION CONTACT: Rhonda Karges, Management Support Specialist, Burns District Office, 28910 Hwy 20 West, Hines, Oregon 97738, (541) 573-4433, or Rhonda_Karges@or.blm.gov or from the following Web site http://www.or.blm.gov/steens (Pub. L. 106-399 in its entirety can be found on the Steens Web site as previously cited).

SUPPLEMENTARY INFORMATION: The purpose of the SMAC is to advise BLM on the management of the CMPA as described in Title 1 of Public Law 106-399. The member will be a person who, as a result of training and experience, has knowledge or special expertise which qualifies them to provide advice from the category of interest listed above.

Members of the SMAC are appointed for terms of three years. The member of the Dispersed Recreation position has resigned; therefore, the newly-appointed member will complete the existing three-year term. This term will begin upon appointment and will expire August 2005.

Member serves without monetary compensation, but will be reimbursed for travel and per diem expenses at current rates for Government employees. The SMAC shall meet only at the call of the Designated Federal Official, but not less than once per year.

Dated: August 12, 2003.
Karla Bird,
Designated Federal Official, Bureau of Land Management.

[FR Doc. 03-23443 Filed 9-12-03; 8:45 am]

BILLING CODE 4310-33-P